DEPARTMENT OF HOUSING AND URBAN DEVELOPMENT

[Docket No. FR-6035-N-03]

Notice of Regulatory Waiver Requests Granted for the Third Quarter of Calendar Year 2017

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2017, and ending on September 30, 2017.

FOR FURTHER INFORMATION CONTACT: For general information about this notice, contact Ariel Pereira, Associate General Counsel for Legislation and Regulations, Department of Housing and Urban Development, 451 Seventh Street SW, Room 10282, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2017.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2017 through September 30, 2017. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2017) before the next report is published (the fourth quarter of calendar year 2017), HUD will include any additional waivers granted for the third quarter in the next report.

Accordingly, information about approved waiver requests pertaining to HUD regulations is provided in the Appendix that follows this notice.

Dated: January 31, 2018.
J. Paul Compton, Jr.,
General Counsel.

Appendix

Listing of Waivers of Regulatory Requirements Granted by Offices of the Department of Housing and Urban Development July 1, 2017 Through September 30, 2017

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 576.106(d).

Project/Activity: The Commonweath of Massachusetts requested a waiver to allow its Emergency Solutions Grants (ESG) subrecipient Craig's Doors to provide rental assistance for higher cost units in, Amherst, Massachusetts.

Nature of Requirement: HUD's regulation at 24 CFR 576.106(d)(1) prohibits ESG rental assistance from being provided for a unit with rent that exceeds the HUD-established Fair Market Rent (FMR), as provided under 24 CFR part 888, or the HUD-established rent reasonableness standard at 24 CFR 982.507.

Granted By: Ralph Gaines, Principal Deputy Assistant Secretary, D.

Date Granted: September 18, 2017.

Reason Waived: Amherst, Massachusetts is home to several colleges and universities. Apartment rental costs have risen due to increased demand of the student population for off-campus housing. The high rental costs and low vacancy rates in the service areas has resulted in a shortage of affordable housing units for extremely low-income renters. As a result, Craig's Doors is experiencing difficulty providing much-needed short- and medium-term rental assistance to eligible individuals. Providing ESG rental assistance for units with rents up to the 120 percent payment standard adopted by the local housing authority will increase housing options for ESG program participants allowing for greater coordination with local housing resources.

Contact: Robert Shumeyko, Director, Boston Field Office, Thomas P. O'Neill, Jr. Federal Building, Department of Housing Development, 10 Causeway Street, Boston, MA 02222-1092, telephone (617) 994-8376.

II. Regulatory Waivers Granted by the Office of Housing—Federal Housing Administration (FHA)

For further information about the following regulatory waivers, please see the name of the contact person that immediately follows the description of the waiver granted.

• Regulation: 24 CFR 200.6 and 5.216(d)(1) and (2).

Project/Activity: Highgate Senior Living-Billings, FHA Project Number 093-22039 is an assisted living facility in Billings, Montana. With the exception of the Chief Operating Officer, the project owners are foreign nationals who do not have Social Security Numbers, but have individual tax identification numbers issued by the Internal Revenue Service.

Nature of Requirement: The regulations at 24 CFR 200.6 and 5.216(d)(1) and (2) set forth certain disclosure and verification requirements for Social Security Numbers and Employer Identification Numbers for applicants and participants in assisted and insured loan insurance and related programs.

Granted By: Dana T. Wade, General Deputy Assistant Secretary for Housing, H.

Date Granted: July 17, 2017.

Reason Waived: The Office of Residential Care Facilities recognizes that foreign nationals and corporate entities may participate as principals in the Section 232 program as long as at least one principal with operational decision-making authority is a United States Citizen. As the project has met these requirements, allowing use of the tax identification numbers in lieu of Social Security Numbers will allow the project to participate in the Section 232 program.

Contact: Vance T. Morris, Operations Manager, Office of Healthcare Programs, Office of Housing, Department of Housing and Urban Development, 451 7th Street SW, Room 2337, Washington, DC 20401, telephone (202) 402-2419.

• Regulation: 24 CFR 219.220(b).

Project/Activity: Luther Towers I, FHA Project Number 032-SH002, Wilmington, Delaware. Lutheran Senior Services, Incorporated (owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Dana T. Wade, Principal Deputy Assistant Secretary for Housing, H.

Date Granted: August 29, 2017.

Reason Waived: The owner requested and was granted a waiver of the requirement to repay the Flexible Subsidy Operating Assistance Loan in full when it became due. Deferring the loan payment will preserve this affordable housing resource for an additional 35 years through the execution and recordation of a Rental Use Agreement.

Contact: Cindy Bridges, Senior Account Executive, Office of Housing, Department of Housing and Urban Development, 451 Seventh Street SW, Room 6168, Washington, DC 20410, telephone (202) 402-2603.

• Regulation: 24 CFR 232.7.

Project/Activity: Portland Center for Assisted Living, FHA Project Number 022-22036, is an Assisted Living facility with memory care units. The facility does not meet the requirements of 24 CFR 232.7 “Bathroom” of FHA's regulations. The project is located in Portland, ME.

Nature of Requirement: The regulation at 24 CFR 232.7 mandates in a board and care home or assisted living facility that not less than one full bathroom must be provided for every four residents. Also, the bathroom cannot be accessed from a public corridor or area.

Granted By: Dana T. Wade, General Deputy Assistant Secretary for Housing.

Date Granted: July 13, 2017.

Reason Waived: The project has both assisted living units and a secured, locked memory care area. The 71 assisted living units (142 beds) are in full compliance with the CFR 232.7, bathroom requirements. There are 14 memory care units (28 beds). For this space, there are 8 half bathrooms to serve for the 14 units with 28 beds. Currently, there is one full bathroom and one additional will be added prior to loan closing. Access to the shower rooms pass through hallways that are within the secured locked unit, with each resident being near one of the two full bathing rooms. The ratio of residents to full bathroom rooms is 14 to one. The memory care residents need assistance with bathing and this arrangement is considered by the facility as safer for the residents. The project meets the State of Maine's licensing requirements for bathing and toileting facilities.

Contact: Vance T. Morris, Operations Manager, Office of Healthcare Programs, Office of Housing, Department of Housing and Urban Development, 451 Seventh Street SW, Room 2337, Washington, DC 20401, telephone (202) 402-2419.

• Regulation: 24 CFR 232.7.

Project/Activity: Sodalis at Buda, FHA Project Number 115-22324, is an existing assisted living facility with memory care units. The facility does not meet the requirements of 24 CFR 232.7 “Bathroom” of FHA's regulations. The project is located in Buda, Texas.

Nature of Requirement: The regulation at 24 CFR 232.7 mandates in a board and care home or assisted living facility that not less than one full bathroom must be provided for every four residents. Also, the bathroom cannot be accessed from a public corridor or area.

Granted By: Dana T. Wade, General Deputy Assistant Secretary for Housing.

Date Granted: August 24, 2017.

Reason Waived: The project contains a secured, locked memory care area of 22 units. Each of the 22 memory care units (22 beds) includes a half bathroom. Access to the shower rooms passes through hallways that are within the secured locked unit, with each resident being near one of the three shower rooms. The ratio of residents to full bathroom rooms is 7 to one and the owner plans on adding one additional large bathroom prior to loan closing. The memory care residents need assistance with bathing and this arrangement is considered by the facility as safer for the residents. The residents do not reside in three or four-bedroom wards. The facility is licensed as a Type B large facility for Alzheimer's and related disorders and meets the State of Texas's licensing requirements for bathing and toileting facilities.

Contact: Vance T. Morris, Operations Manager, Office of Healthcare Programs, Office of Housing, Department of Housing and Urban Development, 451 Seventh Street SW, Room 2337, Washington, DC 20401, telephone (202) 402-2419.

• Regulation: 24 CFR 232.1005.

Project/Activity: Texas Skilled Nursing Facilities with Hospital Operators Participating in the Quality Incentive Payment Program; Senior Living Properties Portfolio.

Nature of Requirement: The regulation at 24 CFR 232.1005 requires that all accounts deriving from the operation of the property, including operator accounts and including all funds received from any source or derived from the operation of the facility, are project assets subject to control under the insured mortgage loan's transactional documents, including, without limitation, the operator's regulatory agreement. For projects participating in the Texas Health and Human Services Commission Quality Incentive Payment Program, the State funds a portion of the supplemental payments to a non-State governmental entity (as an Operating Partner), a portion of which is retained by the Operating Partner, under contractual agreement and pledged as collateral for revenue bonds or other financing used to make the upfront inter-governmental transfer payments.

Granted By: Dana T. Wade, General Deputy Assistant Secretary for Housing.

Date Granted: July 19, 2017.

Reason Waived: Waiver of the 24 CFR 232.1005 requirement for the portion of the inter-governmental transfer funds to be retained by the Operating Partner will allow the portfolio of projects to participate in the supplemental payment program. This will add additional cash-flow to the project, allowing for an increased ability to attract, retain and train a quality workforce and invest in programming and technology that will drive quality outcomes at the facilities. It will also improve security for the FHA-insured loans.

Contact: Vance T. Morris, Operations Manager, Office of Healthcare Programs, Office of Housing, Department of Housing and Urban Development, 451 7th Street SW, Room 2337, Washington, DC 20401, telephone (202) 402-2419.

• Regulation: 24 CFR 232.1005.

Project/Activity: Texas Skilled Nursing Facilities with Hospital Operators Participating in the Quality Incentive Payment Program; Regency Portfolio.

Nature of Requirement: The regulation at 24 CFR 232.1005 requires that all accounts deriving from the operation of the property, including operator accounts and including all funds received from any source or derived from the operation of the facility, are project assets subject to control under the insured mortgage loan's transactional documents, including, without limitation, the operator's regulatory agreement. For projects participating in the Texas Health and Human Services Commission Quality Incentive Payment Program, the State funds a portion of the supplemental payments to a non-State governmental entity (as an Operating Partner), a portion of which is retained by the Operating Partner, under contractual agreement and pledged as collateral for revenue bonds or other financing used to make the upfront inter-governmental transfer payments.

Granted By: Dana T. Wade, General Deputy Assistant Secretary for Housing.

Date Granted: July 19, 2017.

Reason Waived: Waiver of the 24 CFR 232.1005 requirement for the portion of the inter-governmental transfer funds to be retained by the Operating Partner will allow the portfolio of projects to participate in the supplemental payment program. This will add additional cash-flow to the project, allowing for an increased ability to attract, retain and train a quality workforce and invest in programming and technology that will drive quality outcomes at the facilities. It will also improve security for the FHA-insured loans.

Contact: Vance T. Morris, Operations Manager, Office of Healthcare Programs, Office of Housing, Department of Housing and Urban Development, 451 7th Street SW, Room 2337, Washington, DC 20401, telephone (202) 402-2419.

• Regulation: 24 CFR 290.30(a).

Project/Activity: E.C. Reems Garden Apartments, FHA Project Number 121-11054, Oakland, California. The Multifamily West Regional Center seeks approval to waive the non-competitive sale of a HUD-held multifamily mortgage.

Nature of Requirement: The regulation at 24 CFR 290.30(a), which governs the sale of HUD-held mortgages, states that “[e]xcept as otherwise provided in Section 290.31(a)(2), HUD will sell HUD-held multifamily mortgages on a competitive basis.”

Granted by: Dana Wade, General Deputy Assistant Secretary for Housing, H.

Date Granted: July 25, 2017.

Reason Waived: The Multifamily West Regional Center requested and was granted a waiver of the non-competitive sale of a HUD-held multifamily mortgage. A waiver allows the Department to assign the mortgage to the Owner's new mortgagee to avoid paying mortgage recording tax in the State of California.

Contact: Isabella Cabbagestalk, Supervisory Account Executive, Office of Housing, Department of Housing and Urban Development, 451 Seventh Street SW, Room 6168, Washington, DC 20410, telephone (202) 402-2535.

IV. Regulatory Waivers Granted by the Office of Public and Indian Housing

For further information about the following regulatory waivers, please see the name of the contact person that immediately follows the description of the waiver granted.

• Regulation: 24 CFR 982.161(a)(3).

Project/Activity: Stuttgart Housing Authority (SHA) in Stuttgart, Arkansas, requested a waiver of this regulation so that the SHA could continue its housing assistance payments contract with a City Councilman for the City of Stuttgart.

Nature of Requirement: This regulation states that neither the public housing agency nor any of its contractors or subcontractors may enter into a contract or arrangement in connection with the tenant-based programs with any public official, member of a governing body, or State or local legislator who exercises functions or responsibilities with respect to the tenant-based programs during tenure or for one year thereafter.

Granted By: Dominique Blom, General Deputy Assistant Secretary for Public and Indian Housing.

Date Granted: September 15, 2017.

Reason Waived: This regulation was waived to avoid the hardship of requiring the assisted family to move. The assisted family was living in the unit prior to the mayoral election.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.207(b)(3).

Project/Activity: The Housing Authority of the City of Augusta (HACA) in Augusta, Georgia, requested a waiver of this regulation to assist the State of Georgia in fulfilling the requirements set forth in the State of Georgia Americans with Disabilities Act/Section 504 of the Rehabilitation Act Settlement Agreement with the Department of Justice, which stems from the Olmstead v. L.C. litigation.

Nature of Requirement: This regulation allows a PHA t adopt a preference for admission of families that include a person with a disability. However, a PHA may not adopt a preference for the admission of persons with a specific disability.

Granted By: Jemine A. Bryon, General Deputy Assistant Secretary for Public and Indian Housing.

Date Granted: July 10, 2017.

Reason Waived: This waiver allows the HACA to establish a limited preference in order to assist the State of Georgia comply with the remedial requirements stated in the Georgia Settlement Agreement.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.305(c)(4).

Project/Activity: The Josephine Housing and Community Development Council (JHCDC) in Grants Pass, Oregon, requested a waiver of this regulation so that the JHCDC could pay a landlord from the period starting when the unit selected by the family passed the housing quality standards inspection.

Nature of Requirement: This regulation states that any housing assistance payments (HAP) contract executed after 60 days from the beginning of the lease term is void and the PHA may not pay any HAP to the owner.

Granted By: Jemine A. Bryon, General Deputy Assistant Secretary for Public and Indian Housing.

Date Granted: July 10, 2017.

Reason Waived: Due to unforeseen circumstances, this regulation was waived so that the family would not be responsible for the full amount of the rent since the beginning of the lease.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.305(c)(4).

Project/Activity: The Washington County Department of Housing Services (WCDHS) in Hillsboro, Oregon, requested a waiver of this regulation so that the WCDHA could pay a landlord from the period starting when the unit selected by the family passed the housing quality standards inspection.

Nature of Requirement: This regulation states that any housing assistance payments (HAP) contract executed after 60 days from the beginning of the lease term is void and the PHA may not pay any HAP to the owner.

Granted By: Jemine A. Bryon, General Deputy Assistant Secretary for Public and Indian Housing.

Date Granted: July 10, 2017.

Reason Waived: Due to unforeseen circumstances, this regulation was waived so that the family would not be responsible for the full amount of the rent since the beginning of the lease.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.505(d).

Project/Activity: Colorado Division of Housing (CDH) in Denver, Colorado, requested a waiver of 24 CFR 982.505(d) so that it could approve an exception payment standard amount above 120 percent of the fair market rents (FMR) as a reasonable accommodation.

Nature of Requirement: This regulation states that a public housing agency may only approve a higher payment standard for a family as a reasonable accommodation if the higher payment standard is no more than 120 percent of the FMR for the unit size.

Granted By: Jemine A. Bryon, General Deputy Assistant Secretary for Public and Indian Housing.

Date Granted: July 28, 2017.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.505(d).

Project/Activity: Housing Authority of the City of Los Angeles (HACLA) in Lost Angeles, California, requested a waiver of 24 CFR 982.505(d) so that it could approve an exception payment standard amount above 120 percent of the fair market rents (FMR) as a reasonable accommodation.

Nature of Requirement: This regulation states that a public housing agency may only approve a higher payment standard for a family as a reasonable accommodation if the higher payment standard is no more than 120 percent of the FMR for the unit size.

Granted By: Dominique Blom, General Deputy Assistant Secretary for Public and Indian Housing.

Date Granted: August 7, 2017.

Reason Waived: This regulation was waived as a reasonable accommodation to allow a disabled applicant to receive housing assistance and pay no more than 40 percent of its adjusted income toward the family share.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.505(d).

Project/Activity: Mendocino County Community Development Commission (MCCDC) in Ukiah, California, requested a waiver of 24 CFR 982.505(d) so that it could approve an exception payment standard amount above 120 percent of the fair market rents (FMR) as a reasonable accommodation.

Nature of Requirement: This regulation states that a public housing agency may only approve a higher payment standard for a family as a reasonable accommodation if the higher payment standard is no more than 120 percent of the FMR for the unit size.

Granted By: Dominique Blom, General Deputy Assistant Secretary for Public and Indian Housing.

Date Granted: September 8, 2017.

Reason Waived: This regulation was waived as a reasonable accommodation to allow a disabled applicant to receive housing assistance and pay no more than 40 percent of its adjusted income toward the family share.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.505(d).

Project/Activity: Boston Housing Authority (BHA) in Boston, Massachusetts, requested a waiver of 24 CFR 982.505(d) so that it could approve an exception payment standard amount above 120 percent of the fair market rents (FMR) as a reasonable accommodation.

Nature of Requirement: This regulation states that a public housing agency may only approve a higher payment standard for a family as a reasonable accommodation if the higher payment standard is no more than 120 percent of the FMR for the unit size.

Granted By: Dominique Blom, General Deputy Assistant Secretary for Public and Indian Housing.

Date Granted: August 21, 2017.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 983.391(f)(2)(ii).

Project/Activity: The Florence Housing Authority (FHA) in Florence, Alabama, requested a waiver of this regulation so that the FHA could establish site-specific utility allowances in connection with four Rental Assistance Demonstration (RAD) sites.

Nature of Requirement: This regulation states that the PHA may not establish or apply different utility allowance amounts for the project-based voucher (PBV) program. The same PHA utility allowance schedule applies to both the tenant-based and PBV programs.

Granted By: Jemine A. Bryon, General Deputy Assistant Secretary for Public and Indian Housing.

Date Granted: July 10, 2017.

Reason Waived: This regulation was waived since due to utility efficient upgrades at four RAD projects, the consumption rates were less than projected by the FHA's tenant-based utility allowances

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 985.101(a).

Project/Activity: Village of Greenport Housing Authority (VGHA) in Greenport, NY, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Dominique Blom, General Deputy Assistant Secretary for Public and Indian Housing.

Date Granted: August 2, 2017.

Reason Waived: This waiver was granted for the VGHA's fiscal year ending March 31, 2017. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 985.101(a).

Project/Activity: Village of Greenport Housing Authority (VGHA) in Greenport, NY, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Dominique Blom, General Deputy Assistant Secretary for Public and Indian Housing.

Date Granted: August 2, 2017.

Reason Waived: This waiver was granted for the VGHA's fiscal year ending March 31, 2017. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW, Room 4216, Washington, DC 20410, (202) 708-0477.

• Regulation: 24 CFR 985.101(a).

Project/Activity: Housing Authority of the Town of Guttenberg (HATG) in Guttenberg, New Jersey, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Dominique Blom, General Deputy Assistant Secretary for Public and Indian Housing.

Date Granted: August 2, 2017.

Reason Waived: This waiver was granted for the HATG's fiscal year ending March 31, 2017. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 985.101(a).

Project/Activity: Schoolcraft County Housing Commission (SCHC) in Manistique, Michigan, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Dominique Blom, General Deputy Assistant Secretary for Public and Indian Housing.

Date Granted: August 7, 2017.

Reason Waived: This waiver was granted for the SCHC's fiscal year ending March 31, 2017. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 905.400(i)(5)(i).

Project/Activity: Mississippi Regional Housing Authority No. V (MRHA) in Newton, MS.

Nature of Requirement: PHAs use Replacement Housing Factor (RHF) grant funds for the development of replacement housing only.

Granted by: Dominique Blom, General Deputy Assistant Secretary.

Date Granted: August 18, 2017.

Reason Waived: The waiver was granted to allow MRHA to use RHF grant funds for modernization. MRHA is currently under a Voluntary Compliance Agreement with HUD's Office of Fair Housing and Equal Opportunity to make Section 504 renovations to its properties. Recent funding cuts have made these renovations difficult to fund. The RHF grants total is not enough to develop replacement units. Instead, the MRHA will use these funds to contribute to the costs of Section 504 renovations on 30 units. In accordance with 24 CFR 5.110, good cause exists, and HUD approves MRHA's request for a waiver of 24 CFR 905.400(i)(5)(i) for the use of RHF funds to pay for modernization work.

Contact: Susan A. Wilson, Acting Deputy Assistant Secretary for the Office of Public Housing Investments, Office of Public and Indian Housing, Department of Housing and Urban Development, 451 Seventh Street SW, Room 4130, Washington, DC 20140, telephone (202) 402-4500.

• Regulation: 24 CFR 905.400(i)(5)(i).

Project/Activity: The Edinburg Housing Authority (EHA) in Edinburg, TX.

Nature of Requirement: PHAs use Replacement Housing Factor (RHF) grant funds for the development of replacement housing only.

Granted by: Dominique Blom, General Deputy Assistant Secretary.

Date Granted: August 21, 2017.

Reason Waived: The waiver was granted to allow EHA to use RHF grant funds for modernization. EHA states having difficulties finding suitable development locations, which can be obtained at a reasonable price and in enough time to obtain HUD approval of a Development Proposal. EHA had similar problems developing with its First Increment RHF Funds. Most of the EHA's units are at least 40 years old, and with decreasing Capital and Operating Funds, the housing authority is in need of modernization beyond its funding sources. EHA would therefore like to use its Second Increment RHF Funds to preserve its existing inventory, rather than develop new units. In accordance with 24 CFR 5.110, good cause exists, and HUD approves EHA's request for a waiver of 24 CFR 905.400(i)(5)(i) for the use of RHF funds to pay for modernization work.

Contact: Susan A. Wilson, Acting Deputy Assistant Secretary for the Office of Public Housing Investments, Office of Public and Indian Housing, Department of Housing and Urban Development, 451 Seventh Street SW, Room 4130, Washington, DC 20140, telephone (202) 402-4500.

• Regulation: 24 CFR 905.400(i)(5)(i).

Project/Activity: Decatur Housing Authority (DHA) in Decatur, IL.

Nature of Requirement: PHAs use Replacement Housing Factor (RHF) grant funds for the development of replacement housing only.

Granted by: Dominique Blom, General Deputy Assistant Secretary.

Date Granted: August 22, 2017.

Reason Waived: The waiver was granted to allow DHA to use RHF grant funds for modernization. The DHA has indicated that due to a misunderstanding in funding allocation for units eligible for RHF grants, the DHA can no longer conduct the activities approved in its 2nd Increment RHF plan. The DHA will no longer receive its anticipated FY 2015 and 2016 2nd Increment grants (approximately $576,000). The DHA is left with a balance of $102,116.71 remaining in 2nd Increment RHF funds, which is not enough to construct replacement units. DHA will use the RHF funds to address the physical needs and make repairs of its existing units. This will enable DHA to increase the supply of affordable housing through increased occupancy. In accordance with 24 CFR 5.110, good cause exists, and HUD hereby approve DHA's request for a waiver of 24 CFR 905.400(i)(5)(i) for the use of RHF funds to pay for modernization work.

Contact: Susan A. Wilson, Acting Deputy Assistant Secretary for the Office of Public Housing Investments, Office of Public and Indian Housing, Department of Housing and Urban Development, 451 Seventh Street SW, Room 4130, Washington, DC 20140, telephone (202) 402-4500.

• Regulation: 24 CFR 905.400(i)(5)(i).

Project/Activity: Springfield Housing Authority (SHA) in Springfield, TN.

Nature of Requirement: PHAs use Replacement Housing Factor (RHF) grant funds for the development of replacement housing only.

Granted by: Dominique Blom, General Deputy Assistant Secretary.

Date Granted: August 22, 2017.

Reason Waived: The waiver was granted to allow SHA to use RHF grant funds for modernization. SHA intended to use the RHF grants to construct a residential duplex. However, the combined funding is insufficient to construct the 2-bedroom duplex building. Rather than returning the funds, the SHA would use the RHF grants to install central heat and air in its existing units. This will assist in addressing its vacancy problem. In accordance with 24 CFR 5.110, good cause exists, and HUD hereby approve SHA's request for a waiver of 24 CFR 905.400(i)(5)(i) for the use of RHF funds to pay for modernization work.

Contact: Susan A. Wilson, Acting Deputy Assistant Secretary for the Office of Public Housing Investments, Office of Public and Indian Housing, Department of Housing and Urban Development, 451 Seventh Street SW, Room 4130, Washington, DC 20140, telephone (202) 402-4500.

[FR Doc. 2018-02654 Filed 2-8-18; 8:45 am]

BILLING CODE 4210-67-P